DEPARTMENT OF ENERGY

Federal Energy Regulatory Commission

[Project No. 12965-002]

Wickiup Hydro Group, LLC; Oregon; Notice of Availability of Environmental Assessment

In accordance with the National Environmental Policy Act of 1969 and the Federal Energy Regulatory Commission's (Commission or FERC's) regulations, 18 Code of Federal Regulations (CFR) Part 380 (Order No. 486, 52 FR 47897), the Office of Energy Projects has reviewed Wickiup Hydro Group, LLC's application for an original license for the Wickiup Dam Hydroelectric Project (FERC Project No. 12965-002), which would be constructed at the existing Wickiup dam on the Deschutes River in Deschutes County near the city of La Pine, Oregon. The proposed project, if licensed, would occupy 1.02 acres of federal lands jointly managed by the U.S. Department of the Interior, Bureau of Reclamation, and the U.S. Department of Agriculture, Forest Service.

Staff prepared a draft environmental assessment (EA), which analyzes the potential environmental effects of licensing the project, and concludes that licensing the project, with appropriate environmental protective measures, would not constitute a major federal action that would significantly affect the quality of the human environment.

A copy of the EA is available for review at the Commission in the Public Reference Room or may be viewed on the Commission's Web site at www.ferc.gov using the “eLibrary” link. Enter the docket number excluding the last three digits in the docket number field to access the document. For assistance, contact FERC Online Support at FERCOnlineSupport@ferc.gov or toll-free at 1-866-208-3676, or for TTY, 202-502-8659.

You may also register online at www.ferc.gov/docs-filing/esubscription.asp to be notified via email of new filings and issuances related to this or other pending projects. For assistance, contact FERC Online Support.

Any comments should be filed within 45 days from the date of this notice. Comments may be filed electronically via the Internet. See 18 CFR 385.2001(a)(1)(iii) and the instructions on the Commission's Web site at http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street NE., Washington, DC 20426.

For further information, contact Matt Cutlip by telephone at 503-552-2762 or by email at matt.cutlip@ferc.gov.

Dated: April 24, 2012.
Kimberly D. Bose,
Secretary.

[FR Doc. 2012-10535 Filed 5-1-12; 8:45 am]

BILLING CODE 6717-01-P